DEPARTMENT OF EDUCATION

Submission for OMB Review; Comment Request

AGENCY: Department of Education.

SUMMARY: The IC Clearance Official, Regulatory Information Management Services, Office of Management invites comments on the submission for OMB review as required by the Paperwork Reduction Act of 1995.

DATES: Interested persons are invited to submit comments on or before November 24, 2008.

ADDRESSES: Written comments should be addressed to the Office of Information and Regulatory Affairs, Attention: Education Desk Officer, Office of Management and Budget, 725 17th Street, NW., Room 10222, Washington, DC 20503. Commenters are encouraged to submit responses electronically by e-mail to oira_submission@omb.eop.gov or via fax to (202) 395-6974. Commenters should include the following subject line in their response “Comment: [insert OMB number], [insert abbreviated collection name, e.g., “Upward Bound Evaluation”]. Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: October 20, 2008.
Angela C. Arrington,
IC Clearance Official, Regulatory Information Management Services, Office of Management.

Federal Student Aid

Type of Review: New Collection.

Title: Information Collection for College.gov Account Registration and Inspirational Message Features.

Frequency: On Occasion.

Affected Public: Individuals or household.

Reporting and Recordkeeping Hour Burden:

Responses: 54,000.

Burden Hours: 8,100.

Abstract: College.gov's target audience is 9th-12th grade high school students with a focus on students from underrepresented populations. The purpose for including the account registration and inspirational message features in college.gov is to enhance the interactivity and engagement aspects of the site. These features are critical for fully engaging students in the site, for keeping their interest and attention, and for providing inspiration and hope to students (especially to underrepresented populations) that a postsecondary education is possible. The features also support the peer-to-peer aspect of the site and provide relatable role models of students “just like them” that can show that higher education is possible for all students. Web site users have the option of registering with college.gov. In order to register, a user selects the registration link, inputs six data elements and, after providing consent to the site's terms and conditions, submits that information to the Department. Once the account registration process is completed, the user has the option of creating their own inspirational message by uploading a photo and adding their “I'm Going” statement about why they want to pursue education beyond high school. The inspirational message (hereafter “billboard”) is saved within college.gov and can be shared with others. After a user creates a billboard, they can choose to (1) Have their billboard featured on college.gov's home page (visitors can browse through approved user-generated billboards); (2) send their family, friends and other supporters a link to the college.gov home page with their billboard; (3) add a tool to their Facebook profile that displays their billboard and lets their friends provide messages of support and encouragement; or (4) add the billboard to any of their other Web sites.

Requests for copies of the information collection submission for OMB review may be accessed from http://edicsweb.ed.gov, by selecting the “Browse Pending Collections” link and by clicking on link number 3803. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-25362 Filed 10-23-08; 8:45 am]

BILLING CODE 4000-01-P